DEPARTMENT OF ENERGY

Federal Energy Regulatory Commission

[Docket Nos. ER15-861-000; EL15-53-000]

California Independent System Operator Corporation; Supplemental Notice Concerning Post Technical Conference Comments

By order issued in this proceeding on March 16, 2015,¹ the Federal Energy Regulatory Commission directed its staff to convene a technical conference to develop a record regarding issues related to imbalance energy price spikes experienced in PacifiCorp's balancing authority areas subsequent to PacifiCorp's full activation in the California Independent System Operator Corporation's Energy Imbalance Market, and to facilitate the development of a long-term solution. Parties wishing to file post-technical conference comments should do so on or before April 23, 2015.

¹ Cal. Indep. Sys. Operator Corp., 150 FERC ¶ 61,191 (2015).

Dated: April 8, 2015.
Kimberly D. Bose,
Secretary.

[FR Doc. 2015-08558 Filed 4-14-15; 8:45 am]

BILLING CODE 6717-01-P